ELECTION ASSISTANCE COMMISSION

Agency Information Collection Activities: Proposed Collection, Comment Request; Uniform Administrative Requirements for Grants and Cooperative Agreements to State and Local Governments

AGENCY: U.S. Election Assistance Commission (EAC).

ACTION: Notice and request for comments.

SUMMARY: The EAC, as part of its continuing effort to reduce paperwork and respondent burden in accordance with the Paperwork Reduction Act of 1995, invites the general public and other Federal agencies to take this opportunity to comment on proposed information collections; and recordkeeping requirements. Comments are invited on: (a) Whether the proposed collections of information and/or recordkeeping requirements are necessary for the proper performance of the agency's functions, including whether the information has practical utility; (b) the accuracy of the agency's estimate of the burden of the proposed information collections and/or recordkeeping requirements, including the validity of the methodology and assumptions used; (c) ways to enhance the quality, utility, and clarity of the information to be collected or records to be kept; and (d) ways to minimize the burden of the information collections and/or recordkeeping requirements on respondents. Comments submitted in response to this notice will be summarized and/or included in the request for OMB approval.

DATES: You must submit comments on or before 5 PM Eastern Standard Time on February 23, 2009.

ADDRESSES: You may submit comments on the proposed information collections and/or recordkeeping requirements by any of the following methods. Please submit your comments via only one of the methods described.

• E-mail: Send comments to havainfo@eac.gov with “Comments for [Title of Regulation]” in the subject line.

• Fax: Send to “EAC Regulations” at (202) 566-3128. Comments sent by fax must be limited to 6 pages.

• Mail: Send to “EAC Regulations” at U.S. Election Assistance Commission, 1225 New York Avenue, Suite 1100, Washington, DC 20005. Comments sent by mail must be unbound, be on paper no larger than 8.5″ by 11″; and be submitted in duplicate. Mailed comments will not accepted in electronic form (floppy disk, CD, etc.).

• Hand Delivery/Courier: Deliver to Suite 1100, 1225 New York Avenue, Washington, DC 20005 between 9 a.m. and 5 p.m., Monday through Friday, except federal holidays. Comments submitted by hand delivery must be unbound, be on paper no larger than 8.5″ by 11″; and be submitted in duplicate. Comments sent by courier or hand delivery will not be accepted in electronic form (floppy disk, CD, etc.).

Instructions: All submissions must include the agency name and regulation title (i.e. “Uniform Administrative Requirements for Grants and Cooperative Agreements to State and Local Governments”) for this information collection/recordkeeping requirement. Please also identify comments on regulatory text by subpart and section. Note that all comments received will be publicly posted, including any personal information provided. The EAC will post comments without change unless the comment contains profanity or material that is prohibited from disclosure by law.

FOR FURTHER INFORMATION CONTACT: Tamar Nedzar, Attorney, U.S. Election Assistance Commission, 1225 New York Avenue NW., Suite 1100, Washington, DC 20005. Telephone (202) 566-3100.

SUPPLEMENTARY INFORMATION:

Title: Uniform Administrative Requirements for Grants and Cooperative Agreements to State and Local Governments:

OMB Number: Pending.

Type of Review: Regular submission.

Summary of Information Collections and Recordkeeping Requirements: (Full text of regulation at www.eac.gov; and available upon written request).

11 CFR 9423.12(c)—Written notice to grantee or subgrantee. This section requires the awarding official to provide each of its grantees and subgrantees with written notice of any special conditions and/or restrictions on the grantee or subgrantee because it is considered “high risk” and the reasons for imposing the conditions or restrictions. The notice will also include any corrective actions to the grantees' management systems to meet required management standards that must be taken before the grantee or subgrantee will be removed from being high risk, the time allowed for completing these corrective actions, and the method of requesting reconsideration of the conditions/restrictions imposed.

11 CFR 9423.20(a)—Financial management systems. This section requires a State to create financial management systems for itself as well as its subgrantees and cost-type contractors. These systems must allow for States to prepare reports and permit the tracing of funds adequately enough to establish that such funds have not been used inappropriately.

11 CFR 9423.20(b)—Financial management systems. This section requires grantees and subgrantees to maintain financial management systems to support financial reporting; maintain accounting records; control and account for all cash, real and personal property, and other assets and assure that they are used for authorized purposes; show budget control; follow applicable regulations in determining allowable costs; maintain source documentation; and establish procedures to ensure the receipt of reports on cash balances and cash disbursements from subgrantees to prepare cash transactions reports to the awarding agency.

11 CFR 9423.20(c)—Awarding agency review. This section provides that the awarding agency may review the adequacy of the financial management system of any applicant for financial assistance as part of a pre-award review or at any time subsequent to the award.

11 CFR 9423.24(g)—Appraisal of real property. This section provides that an independent appraiser set the market value or fair rental value of real property held by the grantee and that the value or rate be certified by the grantee. This requirement will also be imposed by the grantee on subgrantees.

11 CFR 9423.30—Prior written approval of post-award budget/project changes. Section 9423.30(a) requires certain types of post-award changes in budget and projects specified in paragraphs (c) and (d) of this section to have prior written approval of EAC. The format for the request is specified in paragraph (f).

11 CFR 9423.30(f)(3)—Prior approval decision. This section provides that the grantee promptly review budget/program change requests from subgrantees and approve or disapprove the request in writing. If applicable, EAC would need to approve the grantee's request for changes to its project before the grantee could approve the subgrantee's request.

11 CFR 9423.32(b)—Equipment. This section requires that each grantee establish proper sales procedures to sell property and adequate maintenance procedures to keep the property in good condition.

11 CFR 9423.32(f)—Inventory list. This section requires a grantee to submit to EAC an annual inventory of all federally owned property for which it is accountable.

11 CFR 9423.36(g)(1)—Awarding agency review. This section provides that the awarding agency review technical specifications on proposed procurements to ensure that the item/service specified is the one being proposed for purchase.

11 CFR 9423.40(b)—Nonconstruction performance reports. This section provides that EAC may require grantees to submit performance reports annually or more frequently, as necessary. For the 55 HAVA grantees and 5 election data grantees, this report is due annually. The 20 college mock election grantees report twice a year.

11 CFR 9423.40(d)—Significant developments. This section requires grantees to inform EAC of any problems, delays, or adverse conditions which would inhibit the grantee's ability to meet the objective of the award. This disclosure must include a statement of the action taken, or contemplated, and any assistance needed to resolve the situation. Grantees must also inform EAC of any favorable developments that would allow time schedules and objectives to be met sooner and/or at less cost than was anticipated.

11 CFR 9423.41(d)—Request for advance or reimbursement. This section requires that grantee requests for Treasury check advance payments and for reimbursement under nonconstruction grants be submitted on SF-270.

11 CFR 9423.42—Recordkeeping. This section requires grantees and subgrantees to retain all required records for three years from the starting date.

11 CFR 9423.42(b)(3)—Transfer of records. This section provides that the awarding agency may request transfer of records to its custody when it determines that the records possess long-term retention value.

11 CFR 9423.50—Closeout. This section requires the grantee to submit all financial, performance, and other reports required as a condition of the grant. This includes the final performance or progress report (SF-PPR), the Federal Financial Report (SF-425) or Outlay Report and Request for Reimbursement for Construction Programs (SF 271), the final request for payment (SF 270), invention disclosure, and Federally-owned property report.

Needs and Uses: On March 12, 1987, President Reagan signed a memorandum directing all affected Executive departments and agencies to simultaneously issue a common rule that adopted governmentwide terms and conditions for grants to State and local governments. The departments and agencies followed the guidelines of OMB Circular A-102, and adopted the wording of the Circular verbatim, with their statutory deviations. The common rule was issued on March 11, 1988, and has been updated periodically to reflect new legislation and Executive Orders. EAC, which was created by the Help America Vote Act of 2002, is codifying the common rule at 11 CFR part 9423, and this regulation includes the OMB-required reporting and recordkeeping. The pre-award information, (SF-424, Application for Federal Assistance), is used to qualify and select grant applications. The post-award information, (SF-425, Federal Financial Report; SF-270, Request for Advance or Reimbursement; and SF-271 Outlay Report & Request for Reimbursement for Construction Programs), is used to monitor grantee performance. The after-the-grant information, (SF-425, Federal Financial Report), is used to close out the grant awards. The information is necessary to ensure minimum fiscal control and accountability for Federal funds and deter fraud, waste, and abuse.

Information Collection Associated With Regulations

Affected Public: EAC grant recipients.

Estimated Number of Respondents: 467.

Total Annual Responses: 467.

Estimated Total Annual Burden Hours: 347 hours.

Recordkeeping Requirement Associated With Regulations

Affected Public: EAC grant recipients.

Estimated Number of Respondents: 5,087.

Total Annual Responses: 5,087.

Estimated Total Annual Burden Hours: 33,913 hours.

Thomas R. Wilkey,
Executive Director, U.S. Election Assistance Commission.

[FR Doc. E8-30538 Filed 12-22-08; 8:45 am]

BILLING CODE 6820-KF-P